Title 3—

The President

Proclamation 7303 of May 4, 2000

National Day of Prayer, 2000

By the President of the United States of America

A Proclamation

Throughout our Nation's history, Americans have come before God with humble hearts to ask forgiveness, to seek wisdom, and to offer thanksgiving and praise. The framers of our democracy, on a quest for freedom and equality, were fueled by an abiding faith in a just and loving God, to whom they turned often for guidance and strength.

Succeeding generations of Americans, striving to preserve that freedom in the face of challenges posed by enemies abroad or conflict at home, also turned their hearts and minds to God in prayer. Today, whether celebrating the special moments in our lives, searching for strength and meaning in the face of problems or grief, or simply giving thanks for the blessing of a new day, Americans continue to use the powerful medium of prayer.

Now more than ever, Americans treasure our religious freedom, which embraces the many diverse communities of faith that have infused our society and our cultural heritage through more than two centuries. Millions of Americans gratefully sustain the tradition of prayer in churches, synagogues, temples, mosques, and other houses of worship across our country.

And we continue to rely on our faith as a pillar of strength, even in this era of unprecedented peace and prosperity. We pray for the spirit of reconciliation, so that we may overcome the divisions of race, religion, culture, and background that have scarred our society in recent years. We pray for the spirit of compassion so that we will reach out to others who have not shared equally in this world's bounteous blessings—those here at home who struggle for economic and educational opportunity and those around the globe whose lives have been darkened by the shadows of poverty, oppression, natural disaster, or disease. And we must always pray for wisdom—the wisdom to raise children with strong values and loving hearts; the wisdom to live in harmony with our environment and to preserve its health and beauty for the benefit of future generations; and the wisdom to keep America the world's greatest hope for freedom, peace, and human dignity in the 21st century.

The Congress, by Public Law 100-307, has called on our citizens to reaffirm the role of prayer in our society and to honor the religious diversity our freedom permits by recognizing annually a “National Day of Prayer.”

NOW, THEREFORE, I, WILLIAM J. CLINTON, President of the United States of America, do hereby proclaim May 4, 2000, as a National Day of Prayer. I encourage the citizens of this great Nation to pray, each in his or her own manner, seeking strength from God to face today's challenges, seeking guidance for tomorrow's uncertainties, and giving thanks for the rich blessings that our country has enjoyed throughout its history.

IN WITNESS WHEREOF, I have hereunto set my hand this fourth day of May, in the year of our Lord two thousand, and of the Independence of the United States of America the two hundred and twenty-fourth.

wj

[FR Doc. 00-11585

Filed 5-5-00; 8:45 am]

Billing code 3195-01-P